ENVIRONMENTAL PROTECTION AGENCY

40 CFR Part 63

[AD-FRL-7025-2]

RIN: 2060-AH47

National Emission Standards for Hazardous Air Pollutant Emissions: Group IV Polymers and Resins

AGENCY: Environmental Protection Agency (EPA).

ACTION: Final rule; amendments and denial of petitions.

SUMMARY: The EPA promulgated the Group IV Polymers and Resins national emission standards for hazardous air pollutants (NESHAP) on September 12, 1996. The EPA was petitioned to reconsider the equipment leak detection and repair (LDAR) standards contained in the promulgated rule as they pertain to polyethylene terephthalate (PET) facilities. On June 8, 1999, we issued a proposed denial of the petitions for reconsideration and issued a direct final rule amendment to extend the compliance dates specified for equipment leaks for PET affected sources, as a result of the petitions to reconsider the equipment leak standards for PET facilities.

After revising costs and hazardous air pollutant (HAP) emissions reductions using data provided by petitioners and other commenters, the EPA is retaining the equipment leak provisions of the promulgated rule with one exception; we are modifying the definition of a leak for certain ethylene glycol pumps. In addition, we are extending the compliance dates for the PET affected sources to comply with the equipment leak provisions to August 6, 2002, in order to provide PET facilities time to develop an LDAR program.

EFFECTIVE DATE: August 6, 2001.

ADDRESSES: Docket No. A-92-45 contains information considered by EPA in the development of the standards for the Group IV Polymers and Resins. The docket is available for public inspection and copying between 8:00 a.m. and 5:00 p.m., Monday through Friday, at the EPA's Air and Radiation Docket and Information Center, Waterside Mall, Room M-1500, first floor, 401 M Street, SW., Washington, DC 20460.

FOR FURTHER INFORMATION CONTACT: Mr. Keith Barnett, U.S. EPA, Office of Air Quality Planning and Standards, Research Triangle Park, NC 27711, telephone (919) 541-5605, fax (919) 541-3470, and electronic mail: barnett.keith@epa.gov.

SUPPLEMENTARY INFORMATION: Docket. The docket reflects the full administrative record for this action and includes all the information relied upon by EPA in the development of these petition denials. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the Clean Air Act (CAA).) The regulatory text and other materials related to this final rulemaking are available for review in the docket or copies may be mailed on request from the Air Docket by calling (202) 260-7548. A reasonable fee may be charged for copying docket materials.

World Wide Web (WWW). In addition to being available in the docket, an electronic copy of today's action will also be available on the WWW through the Technology Transfer Network (TTN). Following the Administrator's signature, a copy of the action will be posted on the TTN's policy and guidance page for newly proposed or promulgated rules http://www.epa.gov/ttn/oarpg. The TTN provides information and technology exchange in various areas of air pollution control. If more information regarding the TTN is needed, call the TTN HELP line at (919) 541-5384.

Regulated Entities. The regulated category and entities affected by this action include:

Category | SIC codes | NAICS | Examples of regulated entities
Industry | 2821 | 325211 | Facilities manufacturing PET resin using a batch dimethyl terephthalate (DMT), continuous DMT, batch terephthalic acid (TPA), or continuous TPA process.

This table is not intended to be exhaustive, but rather provides a guide for readers likely to be interested in the amendments to the standards affected by this action. To determine whether your facility is regulated by this action, you should carefully examine all of the applicability criteria in § 63.1310 of the Group IV Polymers and Resins NESHAP. If you have any questions regarding the applicability of these amendments to a particular entity, consult the person listed in the preceding FOR FURTHER INFORMATION CONTACT section.

I. Background

On September 12, 1996, the EPA promulgated the Group IV Polymers and Resins NESHAP (61 FR 48208). Following promulgation, we received two petitions for reconsideration regarding the LDAR program provisions of the rule, and additional data in support of these petitions. The EPA also received petitions regarding other sections of the promulgated rule and is responding to those separately.

The petitions raised two primary issues. One issue stated that the light liquid LDAR program was more costly than EPA estimated, was not cost effective, and should not have been required. The other issue contended that we had not performed a substantive analysis on the heavy liquid LDAR program, which was added between proposal and promulgation, to determine whether the cost per ton of HAP emissions reductions was reasonable; thus, the EPA failed to meet its obligation under section 112(d)(2) of the CAA. The petitioners requested that we revise the cost and cost per ton of HAP emissions reductions of the equipment leak program based on new cost and emissions data they provided in support of the petitions. The petitioners stated that this revised analysis would show that the costs of the LDAR requirements are not reasonable and would lead us to delete the equipment leak provisions for PET facilities from the Group IV Polymers and Resins NESHAP.

In response to the two petitions, in October 1998, we performed an analysis that revised the cost and emission reduction estimates that supported the equipment leak provisions of the Group IV Polymers and Resins NESHAP. Based on that analysis, we proposed to deny the petitions for reconsideration in a Federal Register notice that was published on June 8, 1999 (64 FR 30456). Based on the comments received, we performed a final equipment leak analysis in December 2000 entitled, “Final Analysis of Equipment Leak Program for PET Facilities Subject to the Group IV Polymers and Resins NESHAP,” which is available in Docket A-92-45.

II. Summary of Comments and Responses

Several comments on the proposal to deny the petitions concerned costs and the emission factors used to calculate the cost per ton of HAP emissions reductions of the equipment leak program. Specifically, commenters stated that we had underestimated the costs of the portion of the light liquid program based on EPA Method 21 of 40 CFR 60, appendix A, monitoring of equipment leaks. They also stated that the use of synthetic organic chemical manufacturing industry (SOCMI) emission factors is inappropriate for PET facilities, and that the use of those factors resulted in an overestimation of the HAP emissions reductions resulting from the equipment leak provisions as applied to PET production facilities. The commenters stated that we should not combine portions of equipment leak programs based on one-time equipment modifications with portions that require EPA Method 21 monitoring when determining whether the cost of the equipment leak program is reasonable.

In response to comments, in the December 2000 final analysis, we revised the cost of the EPA Method 21 portion of the equipment leak program based on data provided by the commenters. We continue to believe that use of SOCMI emission factors is appropriate for PET facilities. This is because, in general, the SOCMI and PET facilities have comparable process design and process operation, use the same types of equipment, and use similar feedstocks. However, in order to determine the impact of the differences between the SOCMI emission factors and the equipment leak data provided by commenters, we performed a final equipment leak cost analysis using industry-supplied leak data. The results of that final analysis indicate that the incremental cost per ton of additional HAP emissions reductions for the equipment leak program is reasonable. (See the December 2000 final equipment leak analysis, which is available in Docket A-92-45.)

We did not perform cost analyses which separate portions of the equipment leak programs that require one-time equipment modifications from the portions that are based on EPA Method 21 monitoring. We consider the LDAR program to be a whole program designed to reduce HAP emissions from equipment leaks across the total facility. The leaks from individual equipment components are considered together due to the similarity of the cause of the emissions and the control techniques. We do not believe it is appropriate nor necessary to disaggregate equipment leak programs by individual component types.

One commenter stated that there was a discrepancy between heavy liquid pump requirements for PET facilities and light liquid pumps for polystyrene plants. Specifically, for certain polystyrene pumps, an indication of liquids dripping from pump seal bleed ports is not considered to be a leak because dripping of fluid is a required feature of this type of seal. There are also certain ethylene glycol pumps that require dripping of fluid for proper seal operation. In response to comments, we have modified the definition of a leak for ethylene glycol pumps with this type of seal. Additional details on comments and responses may be found in “Responses to Comments” memo dated December 2000 in Docket A-92-45.

III. Results and Conclusion

The following table presents the cost per ton of HAP emissions reductions ratios by subcategory for the December 2000 final analysis supporting this final denial of the petitions for reconsideration, the October 1998 analysis supporting the proposed denial, the April 1996 analysis supporting the promulgated Group IV Polymers and Resins NESHAP, and the March 1995 analysis supporting the proposed Group IV Polymers and Resins NESHAP. These ratios represent the incremental cost per additional ton of HAP emissions reductions of going beyond the floor of no controls for leaks to requiring facilities to implement an LDAR program. In the October 1998 analysis, the cost-per-ton ratios ranged from $1,300 to $2,100 per ton of HAP emissions reductions. The cost-per-ton ratios of the equipment leak program under the December 2000 final analysis range from $1,600 to $3,300 per ton of HAP emissions reductions.

Summary of Cost-Per-Ton Ratios of Equipment Leak Program for Group IV Resins—Pet Production
[$/ton of HAP Emissions Reductions]
Process subcategory | December 2000 final analysis | October 1998 analysis | April 1996 analysis | March 1995 analysis
DMT-Batch | 3,300 | 2,100 | 620 | 960
DMT-Continuous | 2,700 | 1,300 | 320 | 730
TPA-Continuous | 1,700 | 1,600 | 1,500 | 1,100
TPA-Batch | 1,600 | 1,600 | 730 | 2,200

Even after analyzing the cost-per-ton ratios using industry-supplied leak frequency data in lieu of SOCMI emission factors, and industry-supplied cost data, we have determined that the costs of the equipment leak provisions of the promulgated rule are reasonable. Therefore, we are not removing the equipment leak standards from the promulgated NESHAP for Group IV Polymers and Resins, and we are not modifying any provisions within the equipment leak program of 40 CFR part 63, subpart H, except as noted in the following section.

IV. Other Actions

A. Compliance Date Extension

On February 26, 2001, we issued a direct final rule amendment (66 FR 11543) to extend compliance dates contained in the promulgated Group IV Polymers and Resins NESHAP to August 27, 2001. The revisions extended the compliance dates specified in 40 CFR 63.1311(b) and (d)(6) for PET affected sources. These compliance extensions were approved pursuant to the CAA section 301(a)(1) in order to complete reconsideration of equipment leak provisions and any necessary revisions to the NESHAP.

After reconsideration of the equipment leak provisions, we are retaining the equipment leak provisions of the promulgated NESHAP. However, we are extending the dates for compliance with the equipment leak provisions for the PET affected sources to August 6, 2002, so that they are able to develop their equipment leak programs.

B. Modification of Leak Definition for Certain Ethylene Glycol Pumps

In reviewing the comments received on the June 1999 proposed denial of petition, we are modifying the definition of a leak for certain ethylene glycol pumps which are designed to weep fluids from the seals. Seals that are designed to weep fluid will not be considered to be leaking. This change was made to be consistent with a similar provision for polystyrene pumps.

V. Administrative Requirements

A. Executive Order 12866, Regulatory Planning and Review

Under Executive Order 12866 (58 FR 51735, October 4, 1993), the EPA must determine whether the regulatory action is “significant” and, therefore, subject to review by Office of Management and Budget (OMB) on the basis of the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

Today's action does not fall within any of the four categories described above. Instead, it finalizes the denial of the petitions for reconsideration, makes a minor revision to the equipment leak provisions of the Group IV Polymers and Resins rule and provides a compliance extension. The final action does not add any additional control requirements. Therefore, this is not a “significant regulatory action” within the meaning of Executive Order 12866 and was not required to be reviewed by OMB.

B. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

These final rule amendments do not have federalism implications. They will not have substantial direct effects on the States, on the relationship between the national government and the States, or on the distribution of power and responsibilities among the various levels of government, as specified in Executive Order 13132. This is because the final action applies to affected sources in PET facilities, not to States or local governments. Nor will State law be preempted, or any mandates be imposed on States or local governments. Thus, the requirements of section 6 of the Executive Order do not apply to this final action.

C. Executive Order 13175, Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes, or on the distribution of power and responsibilities between the Federal government and Indian tribes, as specified in Executive Order 13175. Today's final action does not significantly or uniquely affect the communities of Indian tribal governments because they do not own or operate any of the sources affected by this final rule. Thus, Executive Order 13175 does not apply to this final rule.

D. Executive Order 13045, Protection of Children From Environmental Health Risks and Safety Risks

Executive Order 13045: “Protection of Children from Environmental Health Risks and Safety Risks” (62 FR 19885, April 23, 1997) applies to any rule that: (1) Is determined to be “economically significant” as defined under Executive Order 12866, and (2) concerns an environmental health or safety risk that we have reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Executive Order has the potential to influence the regulation. This action is not subject to Executive Order 13045 because it is not an economically significant regulatory action as defined in Executive Order 12866, and it is based on technology performance, and not on health or safety risks.

E. Executive Order 13211, Energy Effects

This rule is not subject to Executive Order 13211, “Actions Concerning Regulations That Significantly Affect Energy Supply, Distribution, or Use” (66 F.R. 28355 (May 22, 2001)) because it is not a significant regulatory action under Executive Order 12866.

F. Unfunded Mandates Reform Act of 1995

Title II of the Unfunded Mandates Reform Act of 1995 (UMRA), Public Law 104-4, establishes requirements for Federal agencies to assess the effects of their regulatory actions on State, local, and tribal governments and the private sector. Under section 202 of the UMRA, we must generally prepare a written statement, including a cost-benefit analysis, for proposed and final rules with “Federal mandates” that may result in expenditures to State, local, and tribal governments, in the aggregate, or to the private sector, of $100 million or more in any 1 year. Before promulgating a rule for which a written statement is needed, section 205 of the UMRA generally requires us to identify and consider a reasonable number of regulatory alternatives and adopt the least-costly, most cost-effective, or least-burdensome alternative that achieves the objectives of the rule. The provisions of section 205 do not apply when they are inconsistent with applicable law. Moreover, section 205 allows us to adopt an alternative other than the least-costly, most cost-effective, or least-burdensome alternative if the Administrator publishes with the final rule an explanation why that alternative was not adopted. Before we establish any regulatory requirements that may significantly or uniquely affect small governments, including tribal governments, it must have developed under section 203 of the UMRA a small government agency plan. The plan must provide for notifying potentially affected small governments, enabling officials of affected small governments to have meaningful and timely input in the development of our regulatory proposals with significant Federal intergovernmental mandates, and informing, educating, and advising small governments on compliance with the regulatory requirements.

The EPA has determined that today's action does not contain a Federal mandate that may result in expenditures of $100 million or more for State, local, and tribal governments, in the aggregate, or the private sector in any 1 year. This action does not impose any enforceable duties on State, local, or tribal governments, i.e., they own or operate no sources subject to the Group IV Polymers and Resins NESHAP and, therefore, are not required to purchase control systems to meet the requirements of the NESHAP. Regarding the private sector, today's action will affect only 23 existing facilities nationwide. The EPA projects that annual economic effects will be far less than $100 million. Thus, today's action is not subject to the requirements of sections 202 and 205 of the Unfunded Mandates Reform Act.

We have also determined that this action contains no regulatory requirements that might significantly or uniquely affect small governments. This action does not impose any enforceable duties on small governments, i.e., they own or operate no sources subject to the NESHAP and, therefore, are not required to purchase control systems to meet the requirements of the NESHAP.

G. Regulatory Flexibility Analysis

The EPA has determined that it is not necessary to prepare a regulatory flexibility analysis in connection with these final rule amendments. The EPA has also determined that these rule amendments will not have a significant impact on a substantial number of small entities because no small entities are subject to the NESHAP.

H. Paperwork Reduction Act

For the Group IV Polymers and Resins NESHAP, the information collection requirements were submitted to OMB under the Paperwork Reduction Act. The OMB approved the information collection requirements and assigned OMB control number 2060-0351. An Agency may not conduct or sponsor, and a person is not required to respond to, a collection of information unless it displays a currently valid OMB control number. The OMB control numbers for the EPA's regulations are listed in 40 CFR part 9 and 48 CFR chapter 15. The EPA has amended 40 CFR part 9, to indicate the information collection requirements contained in the Group IV Polymers and Resins NESHAP.

Today's action has no impact on the information collection burden estimates made previously. Therefore, the ICR has not been revised.

I. National Technology Transfer and Advancement Act of 1995

Section 12(d) of the National Technology Transfer and Advancement Act of 1995 (NTTAA), Public Law. 104-113, section 12(d) (15 U.S.C. 272 note), directs EPA to use voluntary consensus standards in its regulatory activities unless to do so would be inconsistent with applicable law or otherwise impractical. Voluntary consensus standards are technical standards (e.g., materials specifications, test methods, sampling procedures, business practices, etc.) that are developed or adopted by voluntary consensus standard bodies. The NTTAA requires EPA to provide Congress, through OMB, explanations when the Agency decides not to use available and applicable voluntary consensus standards.

The Group IV Polymers and Resins NESHAP includes technical standards. Therefore, the EPA searched for applicable voluntary consensus standards by searching the National Standards System Network (NSSN) database. The NSSN is an automated service provided by the American National Standards Institute for identifying available national and international standards.

The EPA searched for methods potentially equivalent to the methods required by the Group IV Polymers and Resins NESHAP, all of which are methods previously promulgated by EPA. The NESHAP includes methods that measure: (1) Determination of excess air correction factor (percent oxygen)(EPA Method 3B); (2) sampling site location (EPA Method 1 or 1A); (3) volumetric flow rate (EPA Methods 2, 2A, 2C, or 2D); (4) gas analysis (EPA Method 3); (5) stack gas moisture (EPA Method 4); (6) concentration of organic HAP (EPA Method 18 or 25A); and (7) organic compound equipment leaks (EPA Method 21). These EPA methods are found in appendix A to 40 CPR part 60.

No potentially equivalent methods for the methods in the final rule were found in the NSSN database search, and none were brought to our attention in comments on the proposed action. Therefore, the EPA has decided to use the methods listed above.

J. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this final rule and other required information to the U.S. Senate, the U.S. House of Representatives, and the Comptroller General of the United States prior to publication of the final rule in the Federal Register. A major rule cannot take effect until 60 days after it is published in the Federal Register. This action is not a “major rule” as defined by 5 U.S.C. 804(2). These final rule amendments will be effective on August 6, 2001.

List of Subjects in 40 CFR Part 63

Environmental protection, Administrative practice and procedure, Air pollution control, Hazardous substances, Intergovernmental relations, Reporting and recordkeeping requirements.

Dated: July 31, 2001.
Christine Todd Whitman,
Administrator.

For the reasons set out in the preamble, title 40, chapter 1, part 63 of the Code of Federal Regulations is amended as follows:

PART 63—NATIONAL EMISSION STANDARDS FOR HAZARDOUS AIR POLLUTANTS FOR SOURCE CATEGORIES

1. The authority citation for part 63 continues to read as follows:

Authority: 42 U.S.C. 7401, et seq.

Subpart JJJ—National Emission Standards for Hazardous Air Pollutant Emissions: Group IV Polymers and Resins

2. Section 63.1311 is amended by revising paragraphs (b) and (d)(6), to read as follows:

§ 63.1311 Compliance dates and relationship of this subpart to existing applicable rules.

* * * * *

(b) New affected sources that commence construction or reconstruction after March 29, 1995 shall be in compliance with this subpart upon initial start-up or by June 19, 2000, whichever is later, except that new affected sources whose primary product, as determined using the procedures specified in § 63.1310(f), is PET shall be in compliance with § 63.1331 upon initial start-up or August 6, 2002, whichever is later.

* * * * *

(d) * * *

(6) Nothhstanding paragraphs (d)(1) through (5) of this section, existing affected sources whose primary product, as determined using the procedures specified in § 63.1310(f), is PET shall be in compliance with § 63.1331 no later than August 6, 2002.

* * * * *

3. Section 63.1331 is amended by revising (a)(6) introductory text and adding paragraph (a)(6)(v), to read as follows:

§ 63.1331 Equipment leak provisions.

* * * * *

(a)* *

(6) For pumps, valves, connectors, and agitators in heavy liquid service; pressure relief devices in light liquid or heavy liquid service; and instrumentation systems; owners or operators of affected sources producing PET shall comply with the requirements of paragraphs (a)(6)(i) and (ii) of this section instead of with the requirements of § 63.139. Owners or operators of PET affected sources shall comply with all other provisions of subpart H of this part for pumps, valves, connectors, and agitators in heavy liquid service; pressure relief devices in light liquid or heavy liquid service; and instrumentation systems, except as specified in paragraphs (a)(6)(iii) through (v) of this section.

* * * * *

(v) Indications of liquids dripping, as defined in subpart H of this part, from packing glands for pumps in ethylene glycol service where the pump seal is designed to weep fluid shall not be considered to be a leak. Ethylene glycol dripping from pump seals must be captured in a catchpan and returned to the process.

* * * * *

[FR Doc. 01-19560 Filed 8-3-01; 8:45 am]

BILLING CODE 6560-50-P